DEPARTMENT OF TRANSPORTATION

Federal Aviation Administration

Aviation Rulemaking Advisory Committee Meeting on Transport Airplane and Engine Issues

AGENCY: Federal Aviation Administration (FAA), DOT.

ACTION: Notice of public meeting.

SUMMARY: This notice announces a public meeting of the FAA's Aviation Rulemaking Advisory Committee (ARAC) Transport Airplane and Engine (TAE) Subcommittee to discuss TAE issues.

DATES: The meeting is scheduled for Thursday, November 13, 2014, starting at 9:00 a.m. Eastern Daylight Time. The public must make arrangements by November 3, 2014, to present oral statements at the meeting.

ADDRESSES: 929 Long Bridge Drive, Arlington, VA 22202.

FOR FURTHER INFORMATION CONTACT: Ralen Gao, Office of Rulemaking, ARM-209, FAA, 800 Independence Avenue SW., Washington, DC 20591, Telephone (202) 267-3168, FAX (202) 267-5075, or email at ralen.gao@faa.gov.

SUPPLEMENTARY INFORMATION: Pursuant to Section 10(a)(2) of the Federal Advisory Committee Act (Pub. L. 92-463; 5 U.S.C. app. 2), notice is given of an ARAC meeting to be held November 13, 2014.

The agenda for the meeting is as follows:

• Opening Remarks, Review Agenda and Minutes

• FAA Report

• ARAC Report

• Transport Canada Report

• EASA Report

• Engine Harmonization Working Group Report—Engine Endurance Testing

• Airworthiness Assurance Working Group Report

• Engine Harmonization Working Group Report—Bird Ingestion

• Flight Test Harmonization Working Group Report

• Any Other Business

• Action Items Review

Attendance is open to the public, but will be limited to the availability of meeting room space. Please confirm your attendance with the person listed in the FOR FURTHER INFORMATION CONTACT section no later than November 3, 2014. Please provide the following information: Full legal name, country of citizenship, and name of your industry association, or applicable affiliation. If you are attending as a public citizen, please indicate so.

The FAA will arrange for teleconference service for individuals wishing to join in by teleconference if we receive notice by November 3, 2014. For persons participating by telephone, please contact the person listed in FOR FURTHER INFORMATION CONTACT by email or phone for the teleconference call-in number and passcode. Anyone calling from outside the Arlington, VA, metropolitan area will be responsible for paying long-distance charges.

The public must make arrangements by November 3, 2014, to present oral statements at the meeting. Written statements may be presented to the Subcommittee at any time by providing 25 copies to the person listed in the FOR FURTHER INFORMATION CONTACT section or by providing copies at the meeting. Copies of the documents to be presented to the Subcommittee may be made available by contacting the person listed in the FOR FURTHER INFORMATION CONTACT section.

If you need assistance or require a reasonable accommodation for the meeting or meeting documents, please contact the person listed in the FOR FURTHER INFORMATION CONTACT section. Sign and oral interpretation, as well as a listening device, can be made available if requested 10 calendar days before the meeting.

Issued in Washington, DC, on October 9, 2014.
Lirio Liu,
Designated Federal Officer.

[FR Doc. 2014-24675 Filed 10-16-14; 8:45 am]

BILLING CODE 4910-13-P